DEPARTMENT OF HEALTH AND HUMAN SERVICES

Administration for Children and Families

Submission for Office of Management and Budget Review; Office of Human Services Emergency Preparedness and Response Disaster Human Services Case Management Intake Assessment, Resource Referral, and Case Management Plan

AGENCY: Office of Human Services Emergency Preparedness and Response, Administration for Children and Families, U.S. Department of Health and Human Services.

ACTION: Request for public comments.

SUMMARY: The Office of Human Services Emergency Preparedness and Response (OHSEPR), Administration for Children and Families (ACF), U.S. Department of Health and Human Services (HHS), is requesting an extension for approval of the following information collection: OHSEPR Disaster Human Services Case Management Intake Assessment, Resource Referral, and Case Management Plan; OMB No.: 0970-0619. This information collection was originally approved for 6 months through an emergency approval.

DATES: Comments due within 30 days of publication. OMB is required to make a decision concerning the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing infocollection@acf.hhs.gov. All emailed requests should be identified by the title of the information collection.

SUPPLEMENTARY INFORMATION:

Description: OHSEPR is seeking to continue data collection with all forms approved under OMB No. 0970-0619, which OMB recently approved through an emergency approval for 6 months. OHSEPR's Disaster Human Services Intake Assessment, Resource Referral, and Case Management Plan collection is part of a system of tools that OHSEPR utilizes to support disaster survivors during response missions. OHSEPR's case managers would use this collection during an intake assessment to identify a disaster survivor's unmet needs and to work with the survivor to develop a case management plan based on the survivor's responses.

Respondents: Disaster survivors.

Annual Burden Estimates
Data collection | Annual number of respondents | Total number of responses per respondent | Average burden hours per response | Annual burden hours
Disaster Human Services Case Management Intake Assessment—Survivor | 9,000 | 1 | 1.5 | 13,500
Case Management Plan—Case Manager | 180 | 50 | 1 | 9,000
Resource Referral Form—Case Manager | 180 | 50 | 1 | 9,000
Case Record Notes—Case Manager | 180 | 50 | 1 | 9,000
Survivor Satisfaction Survey—Survivor | 9,000 | 1 | .25 | 2,250
Estimated Total Annual Burden Hours: |  |  |  | 42,750

Authority: The Disaster Human Services Case Management Program is authorized through appropriations language under the Children and Families Services account. It is operated by the ACF Office of Human Services Emergency Preparedness and Response, which is the lead in HHS for human service preparation for, response to, and recovery from, natural disasters.

Mary B. Jones,
ACF/OPRE Certifying Officer.

[FR Doc. 2024-01728 Filed 1-29-24; 8:45 am]

BILLING CODE 4184-PC-P